ENVIRONMENTAL PROTECTION AGENCY

40 CFR Part 52

[EPA-R07-OAR-2016-0556; FRL-9953-62-Region 7]

Approval of Nebraska's Air Quality Implementation Plans

AGENCY: Environmental Protection Agency (EPA).

ACTION: Proposed rule.

SUMMARY: The Environmental Protection Agency (EPA) proposes to approve the State Implementation Plan (SIP) revision submitted by the State of Nebraska. This action will amend the SIP to include revisions to Title 129 of the Nebraska Air Quality Regulations, Chapter 4, “Ambient Air Quality Standards”; Chapter 19, “Prevention of Significant Deterioration of Air Quality”; and Chapter 22, “Incinerators; Emission Standards”. This amendment makes the state regulation consistent with the National Ambient Air Quality Standards (NAAQS) for particulate matter 10 micrometers or less (PM10), fine particulate matter 25 micrometers or less (PM2.5), Sulfur dioxide, Nitrogen dioxide, Carbon monoxide, Ozone, and Lead as of the date of the state submittal. This action also makes formatting and grammatical corrections to title 129, chapters 19 and 22.

DATES: Comments must be received by November 10, 2016

ADDRESSES: Submit your comments, identified by Docket ID No. EPA-R07-OAR-2016-0556, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Greg Crable, Environmental Protection Agency, Air Planning and Development Branch, 11201 Renner Boulevard, Lenexa, Kansas 66219 at 913-551-7391, or by email at crable.gregory@epa.gov.

SUPPLEMENTARY INFORMATION: This document proposes to take action on the State Implementation Plan (SIP) revisions submitted by the State of Nebraska. We have published a direct final rule approving the State's SIP revision (s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects in 40 CFR Part 52

Environmental protection, Air pollution control, Carbon monoxide, Incorporation by reference, Intergovernmental relations, Lead, Nitrogen dioxide, Ozone, Particulate matter, Reporting and recordkeeping requirements, Sulfur dioxide, Volatile organic compounds.

Dated: September 27, 2016.
Mike Brincks,
Acting Regional Administrator, Region 7.

[FR Doc. 2016-23977 Filed 10-7-16; 8:45 am]

BILLING CODE 6560-50-P